DEPARTMENT OF VETERANS AFFFAIRS

Voluntary Service National Advisory Committee; Notice of Meeting

The Department of Veterans Affairs gives notice under Public Law 92-463 (Federal Advisory Committee Act) that the annual meeting of the Department of Veterans Affairs Voluntary Service (VAVS) National Advisory Committee (NAC) will be held May 20-22, 2009, at the Marriott Westchase, 2900 Briarpark Drive, Houston, Texas. The meeting is open to the public, and the sessions are scheduled as follows:

May 20—2 p.m. until 4 p.m.

May 21—8:30 a.m. until 4 p.m.

May 22—8:30 a.m. until 4 p.m.

The Committee, comprised of sixty-three national voluntary organizations, advises the Secretary, through the Under Secretary for Health, on the coordination and promotion of volunteer activities within VA health care facilities. The primary purposes of this meeting are: To provide for Committee review of volunteer policies and procedures; to accommodate full and open communications between organization representatives and the Voluntary Service Office and field staff; to provide educational opportunities geared towards improving volunteer programs with special emphasis on methods to recruit, retain, motivate and recognize volunteers; and to approve Committee recommendations.

The May 20 session will involve opening ceremonies and remarks by several VA and local officials. The May 21 session will feature the Voluntary Service Report and recognition of the recipients of the VAVS Award for Excellence and NAC Volunteers of the Year. In addition, the James H. Parke Memorial Scholarship Luncheon will be held to honor an outstanding youth volunteer. Educational workshops will be held in the afternoon.

On May 22, the business session will include subcommittee reports. This session will be followed by a repeat of the educational workshops and closing remarks from the Chairman.

No time will be allocated at this meeting for receiving oral presentations from the public. However, interested persons may either attend or file statements with the Committee. Written statements may be filed either before the meeting or within 10 days after the meeting and addressed to: Ms. Laura B. Balun, Director, Voluntary Service Office (10C2), Department of Veterans Affairs, 810 Vermont Avenue, NW., Washington, DC 20420. Individuals interested in attending are encouraged to contact Ms. Balun at (202) 461-7300.

By Direction of the Secretary.

Dated: January 16, 2009.
E. Philip Riggin,
Committee Management Officer.

[FR Doc. E9-1506 Filed 1-22-09; 8:45 am]

BILLING CODE 8320-01-P